DEPARTMENT OF AGRICULTURE

Agricultural Research Service

Notice for Comment on Two Strategic Plans for the Subcommittee on Aquaculture Science Planning and Regulatory Efficiency Task Forces and on Updating the National Aquaculture Development Plan

AGENCY: Agricultural Research Service, USDA.

ACTION: Notice and request for comments.

SUMMARY: In October 2018, the SCA established a Science Planning Task Force charged with documenting Federal science and technology opportunities and priorities for aquaculture by revising and updating the National Strategic Plan for Federal Aquaculture Research (2014-2019). Similarly, in February 2019, the SCA established a Regulatory Efficiency Task Force charged with developing a new plan for interagency science and technology coordination to improve regulatory efficiency, research and technology development, and economic growth. The Task Forces are seeking public comment on Science and Regulatory Efficiency strategic plans to determine if their respective topics are adequately covered. See SUPPLEMENTARY INFORMATION for more details.

DATES: In the Federal Register of August 5, 2021, FR Doc. 2021-16711. Doc. 2021-04701, on Pages 42776-42777, under dates should read as follows: Comments must be received by September 18th, 2021 to be assured of consideration.

SUPPLEMENTARY INFORMATION: The Subcommittee on Aquaculture (SCA) is a statutory subcommittee that operates under the Committee on Environment of the National Science and Technology Council (NSTC) under the Office of Science and Technology Policy in the Executive Office of the President [National Aquaculture Act of 1980 (Pub. L. 96-362. 94 Stat. 1198, 16 U.S.C. 2801, et seq.) and the National Aquaculture Improvement Act of 1985 (Pub. L. 99-198, 99 Stat. 1641)].

In addition, in May of 2020, the SCA established an Economic Development Task Force charged with developing a strategic plan for economic development through aquaculture. Separately from SCA, the National Aquaculture Act of 1980 requires select federal agencies to develop a National Aquaculture Development Plan (NADP). Last completed in 1983, the NADP describes aquaculture associated technologies, problems, and opportunities in the United States and its territories. It recommends actions to solve problems and analyzes the social, environmental, and economic impacts of growth in aquaculture. The SCA plans to update the NADP using the Science and Regulatory Efficiency plans described here, with the addition of the Economic Development plan currently in process.

Signed at Washington, DC, August 26, 2021.
Yvette Anderson,
Federal Register Liaison Officer, ARS, ERS, NASS.

[FR Doc. 2021-18723 Filed 8-31-21; 8:45 am]

BILLING CODE 3410-03-P